DEPARTMENT OF AGRICULTURE

Forest Service

Notice of Tri-County Advisory Committee Meeting

AGENCY: Forest Service, USDA.

ACTION: Notice of meeting.

SUMMARY: Pursuant to the authorities in the Federal Advisory Committee Act (Public Law 92-463) and under the Secure Rural Schools and Community Self-Determination Act of 2000 (Pub. L. 106-393) the Beaverhead-Deerlodge National Forest's Tri-County Resource Advisory Committee will meet on Wednesday, July 21, 2004, from 10 a.m. to 4 p.m. in Deer Lodge, Montana, for a business meeting. The meeting is open to the public.

DATES: Wednesday, July 21, 2004.

ADDRESSES: The meeting will be held at the USDA Service Center, 1 Hollenback Road, Deer Lodge, Montana.

FOR FURTHER INFORMATION CONTACT: Thomas K. Reilly, Designated Forest Official (DFO), Forest Supervisor, Beaverhead-Deerlodge National Forest, at (406) 683-3973.

SUPPLEMENTARY INFORMATION: Agenda topics for this meeting include an orientation on committee responsibilities for new members, electing a chair for the committee, administrative information for members, public comment, and discussion about project proposals, as authorized under Title II of Public Law 106-393. If the meeting location is changed, notice will be posted in local newspapers, including the The Montana Standard.

Dated: June 14, 2004.
Thomas K. Reilly,
Designated Federal Official, Forest Supervisor.

[FR Doc. 04-14041 Filed 6-21-04; 8:45 am]

BILLING CODE 3410-11-M